SECURITIES AND EXCHANGE COMMISSION

[Release No. 47178; File No. SR-PCX-2002-74]

Self-Regulatory Organizations; Order Granting Accelerated Approval to a Rule Change Proposed by the Pacific Stock Exchange, Inc. Relating to Two New Order Types on the Achipelago Exchange

January 13, 2003.

On December 9, 2002, the Pacific Stock Exchange, Inc. (“PCX”) filed a proposed rule change with the Securities and Exchange Commission pursuant to section 19(b)(1) of the Securities Exchange Act of 1934 (“Act”)¹ and rule 19b-4 thereunder ² to adopt two new order types, an Immediate-or-Cancel (“IOC”) Cross Order and a Post No Preference (“PNP”) Cross Order, on its equities trading facility, the Archipelago Exchange (“ArcaEx”). The PCX also proposed to allow the new order types to be subject to the recent de minimis exemption from the trade-through restrictions of the Intermarket Trading System Plan in certain exchange-traded funds.³

¹ 15 U.S.C. 78s(b)(1).

² 17 CFR 240.19b-4.

³ See Securities Exchange Act Release No. 46428 (August 28, 2002), 67 FR 56607 (September 4, 2002) (Order of the Commission pursuant to section 11A of Act).

The Commission published notice of the proposed rule change for comment in the Federal Register on December 24, 2002.⁴ The Commission received no public comments with respect to the proposal. This order grants accelerated approval to the PCX's proposed rule change.

⁴ See Securities Exchange Act Release No. 47010 (December 16, 2002), 67 FR 78554 (December 24, 2002). The 15-day comment period ran through January 8, 2003.

The PCX requested that the Commission grant accelerated approval to the proposed rule change pursuant to section 19(b)(2) of the Act ⁵ so that the PCX may implement the new order types before the 30th day after publication of the notice in the Federal Register. The PCX represented that the proposed IOC Cross and PNP Cross order types would promote a more efficient and effective market operation and enhance the investment choices available to investors in the handling of their orders. Moreover, with respect to the proposal to amend PCXE rule 7.37, the PCX believes that the proposed rule change would allow market participants to take full advantage of the de minimis exception to the ITS Plan's trade-through rule.

⁵ 15 U.S.C. 78s(b)(2).

After careful review, the Commission finds that the proposed rule change is consistent with the requirements of the Act and the regulations thereunder applicable to a national securities exchange.⁶ Specifically, the Commission believes that the proposal is consistent with section 6(b)(5) of the Act,⁷ which requires that the rules of an exchange be designed to promote just and equitable principles of trade, to foster cooperation and coordination with person engaged in facilitating transactions in securities, to remove impediments to and perfect the mechanism of a free and open market, and to protect investors and the public interest.

⁶ In approving this rule, the Commission notes that it has considered the proposal's impact on efficiency, competition, and capital formation. See 15 U.S.C. 78c(f).

⁷ 15 U.S.C. 78f(b)(5).

The Commission also finds good cause to approve the proposed rule change before the 30th day after the date of publication of notice in the Federal Register. The Commission believes that the proposed change to PCXE rule 7.37 is consistent with the terms and spirit of the de minimis exemption from the trade-through restrictions of the ITS Plan, and will allow market participants to further benefit from this exemption. The Commission believes that the proposed IOC Cross and PNP Cross order types will promote an efficient and effective market operation and will offer investors additional choices in the handling of their orders. Accelerated approval of the proposal will make the proposed order types available to investors more quickly and without undue delay. Accordingly, the Commission finds it appropriate to approve the proposed rule change before the 30th day after the date of publication in the Federal Register.

It is therefore ordered, pursuant to section 19(b)(2) of the Act,⁸ that the proposed rule change (SR-PCX-2002-74) is hereby approved and shall become effective immediately.

⁸ 15 U.S.C. 78s(b)(2).

For the Commission, by the Division of Market Regulation, pursuant to delegated authority.⁹

⁹ 17 CFR 200.30-3(a)(12).

Margaret H. McFarland,
Deputy Secretary.

[FR Doc. 03-1290 Filed 1-21-03; 8:45 am]

BILLING CODE 8010-01-P